DEPARTMENT OF ENERGY

Federal Energy Regulatory Commission

[Docket No. RP01-70-000]

Kinder Morgan Interstate Gas Transmission LLC; Notice of Tariff Filing

November 3, 2000.

Take notice that on October 31, 2000, Kinder Morgan Interstate Gas Transmission LLC, (KMIGT) tendered for filing as part of its FERC Gas Tariff, Fourth Revised Volume No. 1-A and Fourth Revised Volume 1-B, the tariff sheets listed on appendix A to the filing, to become effective December 1, 2000.

KMIGT states that the proposed changes update the KMIGT tariff and clarify certain tariff provisions with respect to KMIGT's tariff provisions governing negotiated rates, in accordance with current Commission policy and decisions concerning tariff filings made by other interstate pipelines with respect to negotiated rate authority.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-28758 Filed 11-8-00; 8:45 am]

BILLING CODE 6717-01-M